DEPARTMENT OF THE INTERIOR

National Park Service

[NPS-WASO-NAGPRA-23151;PPWOCRADN0-PCU00RP14.R50000]

Notice of Intent To Repatriate Cultural Items: Placer County Museums, Auburn, CA

AGENCY: National Park Service, Interior.

ACTION: Notice.

SUMMARY: The Placer County Museums, in consultation with the appropriate Indian tribes or Native Hawaiian organizations, has determined that the cultural items listed in this notice meet the definition of objects of cultural patrimony. Lineal descendants or representatives of any Indian tribe or Native Hawaiian organization not identified in this notice that wish to claim these cultural items should submit a written request to the Placer County Museums. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Placer County Museums at the address in this notice by June 2, 2017.

ADDRESSES: Ralph Gibson, Museums Administrator, Placer County Museums, 101 Maple Street, Auburn, CA 95603, telephone (530) 889-6500, email RGibson@placer.ca.gov.

SUPPLEMENTARY INFORMATION: Notice is here given in accordance with the Native American Graves Protection and Repatriation Act (NAGPRA), 25 U.S.C. 3005, of the intent to repatriate cultural items under the control of the Placer County Museums, Auburn, CA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, one cultural item was removed from an unknown location and donated to the Placer County Museums by Guy L. Gilchrist of Dutch Flat, CA, in 1949. It is unclear where he acquired the object. The one object of cultural patrimony is a water jar.

At an unknown date, two cultural items were removed from an unknown location and donated to the Placer County Museums by Maude E. Denney of Roseville, CA, in 1949. It is unclear where she acquired the objects. The two objects of cultural patrimony are a water jar and a winnowing tray,

At an unknown date, six cultural items were removed from an unknown location and donated to the Placer County Museums by Berenice Pate of Auburn, CA, in 1986. Pate's husband, Waldo Pate, was a physician who treated local Indians. He often received baskets as payment for medical services and the couple continued collecting through purchases and gifts. In the 1960s, Berenice Pate served as the executive director of the California Indian Commission. A large part of their collection was acquired in Modoc County, CA. The six objects of cultural patrimony are four water jars, one parching tray, and one burden basket.

The tribe affiliation was determined by Foley C. Benson, M. A, A. S.A. Certified Appraiser, and Norman Wilson, Museum Consultant. The affiliation was confirmed through consultation with the Reno-Sparks Indian Colony, Nevada, who recognized methods and materials used in the construction of the items that were consistent with traditional Paiute weavings.

Determinations Made by the Placer County Museums

Officials of the Placer County Museums have determined that:

• Pursuant to 25 U.S.C. 3001(3)(D), the 9 cultural items described above have ongoing historical, traditional, or cultural importance central to the Native American group or culture itself, rather than property owned by an individual.

• Pursuant to 25 U.S.C. 3001(2), there is a relationship of shared group identity that can be reasonably traced between the objects of cultural patrimony and the Reno-Sparks Indian Colony, Nevada.

Additional Requestors and Disposition

Lineal descendants or representatives of any Indian tribe or Native Hawaiian organization not identified in this notice that wish to claim these cultural items should submit a written request with information in support of the claim to Ralph Gibson, Placer County Museums, 101 Maple Street, Auburn, CA 95603, telephone (530) 889-6500, email RGibson@placer.ca.gov, by June 2, 2017. After that date, if no additional claimants have come forward, transfer of control of the objects of cultural patrimony to Reno-Sparks Indian Colony, Nevada, may proceed.

The Placer County Museums is responsible for notifying the Reno-Sparks Indian Colony, Nevada, Shingle Springs Band of Miwok Indians, Shingle Springs Rancheria (Verona Tract), California, United Auburn Indian Community of the Auburn Rancheria of California, Washoe Tribe of Nevada & California (Carson Colony, Dresslerville Colony, Woodfords Community, Stewart Community & Washoe Ranches), and Wilton Rancheria, California, that this notice has been published.

Dated: March 23, 2017.
Melanie O'Brien,
Manager, National NAGPRA Program.

[FR Doc. 2017-08878 Filed 5-2-17; 8:45 am]

BILLING CODE 4312-52-P